DEPARTMENT OF TRANSPORTATION

Federal Aviation Administration

14 CFR Part 39

[Docket No. FAA-2011-0644; Directorate Identifier 2010-NM-265-AD]

RIN 2120-AA64

Airworthiness Directives; The Boeing Company Model 777 Airplanes

AGENCY: Federal Aviation Administration (FAA), DOT.

ACTION: Notice of proposed rulemaking (NPRM).

SUMMARY: We propose to adopt a new airworthiness directive (AD) for the products listed above. This proposed AD would require repetitive detailed inspection and high frequency eddy current (HFEC) inspections for cracks of the wing center section (WCS) spanwise beams, and repair if necessary. This proposed AD was prompted by reports of cracks found in the web pockets of the WCS spanwise beams. We are proposing this AD to detect and correct cracking in the WCS spanwise beams, which could result in reduced structural integrity of the wings.

DATES: We must receive comments on this proposed AD by August 15, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Duong Tran, Aerospace Engineer, Airframe Branch, ANM-120S, FAA, Seattle Aircraft Certification Office, 1601 Lind Avenue, SW., Renton, Washington 98057-3356; phone: (425) 917-6452; Fax: (425) 917-6590; e-mail: duong.tran@faa.gov.

SUPPLEMENTARY INFORMATION:

Comments Invited

We invite you to send any written relevant data, views, or arguments about this proposal. Send your comments to an address listed under the ADDRESSES section. Include “Docket No. FAA-2011-0644; Directorate Identifier 2010-NM-265-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received reports of cracking in the wing center section (WSC) spanwise beams. Two operators reported finding a crack in the web pockets of WCS spanwise beams on two airplanes. In the first report, metallurgical testing showed the cracks were the result of fatigue from reverse bending (diagonal tension buckling).

If cracking at multiple locations occurs in multiple spanwise beams, the WCS spanwise beams might not be able to carry design loads. This could result in the loss of the WCS load path. We are proposing this AD to detect and correct cracking in the WCS spanwise beams, which could result in reduced structural integrity of the wings.

Relevant Service Information

We reviewed Boeing Alert Service Bulletin 777-57A0087, dated November 11, 2010. Boeing Alert Service Bulletin 777-57A0087, dated November 11, 2010 describes procedures for a detailed inspection and high frequency eddy current (HFEC) inspection for cracks in the WCS web pockets of spanwise beams numbers 1, 2, and 3; a detailed inspection for cracks of any previously installed repairs; and repair including doing a related investigation action and all applicable corrective actions, if necessary. Boeing Alert Service Bulletin 777-57A0087, dated November 11, 2010 also describes methods for repairing cracking by following procedures in Appendix A, B, or C or by contacting Boeing for repair instructions, depending on the size and location of the crack. The related investigative action is doing a HFEC inspection for cracking around the edge of the cutout, for which the corrective action is contacting Boeing.

FAA's Determination

We are proposing this AD because we evaluated all the relevant information and determined the unsafe condition described previously is likely to exist or develop in other products of this same type design.

Proposed AD Requirements

This proposed AD would require accomplishing the actions specified in the service information described previously, except as discussed under “Differences Between the Proposed AD and the Service Information.”

Differences Between the Proposed AD and the Service Information

Although Boeing Alert Service Bulletin 777-57A0087, dated November 11, 2010, specifies to contact the manufacturer for instructions on how to repair certain conditions, this proposed AD would require repairing those conditions in one of the following ways:

• Per a repair method approved by the FAA or an FAA authorized representative, or

• Using data to meet the certification basis of the airplane, and that have been approved by the Boeing Commercial Airplanes Organization Designation Authorization (ODA) whom we have authorized to make those findings.

Costs of Compliance

We estimate that this proposed AD affects 160 airplanes of U.S. registry and 920 airplanes of international registry (including domestic).

We estimate the following costs to comply with this proposed AD:

Estimated Costs
Action | Labor cost | Parts cost | Cost per product | Cost on U.S. operators
Detailed inspection and high frequency eddy current inspection of spanwise beams | 50 work-hours × $85 per hour = $4,250 per inspection cycle | $0 | $4,250 per inspection cycle | $680,000 = 160 airplanes × $4,250 per inspection cycle.

We have received no definitive data that would enable us to provide cost estimates for the on-condition repair actions specified in this proposed AD. We have no way of determining the number of aircraft that might need these repairs.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2011-0644; Directorate Identifier 2010-NM-265-AD.

Comments Due Date

(a) We must receive comments by August 15, 2011.

Affected ADs

(b) None.

Applicability

(c) This AD applies to The Boeing Company Model 777-200, -200LR, -300, -300ER, and 777F series airplanes, certificated in any category, as identified in Boeing Alert Service Bulletin 777-57A0087, dated November 11, 2010.

Subject

(d) Joint Aircraft System Component (JASC)/Air Transport Association (ATA) of America Code 57: Wings.

Unsafe Condition

(e) This AD was prompted by reports of cracks found in the web pockets of the wing center section spanwise beams. We are issuing this AD to detect and correct cracking in the WCS spanwise beams, which could result in reduced structural integrity of the wings.

Compliance

(f) Comply with this AD within the compliance times specified, unless already done.

Repetitive Inspections and Corrective Actions

(g) At the later of the times specified in paragraphs (g)(1) and (g)(2) of this AD, do a detailed inspection and a high frequency eddy current inspection for cracks of the web pockets of the WCS spanwise beams numbers 1, 2, and 3; and a detailed inspection for cracks of any previously installed repairs; in accordance with the Accomplishment Instructions of Boeing Alert Service Bulletin 777-57A0087, dated November 11, 2010. Repeat the inspections thereafter at intervals not to exceed 8,000 flight cycles.

(1) Before the accumulation of 8,000 total flight cycles.

(2) Within 6,000 flight cycles, or 1,125 days, after the effective date of this AD, whichever occurs first.

(h) If any cracking is found during any inspection required by paragraph (g) of this AD, before further flight, repair the crack, including related investigative actions and all applicable corrective actions, in accordance with the Accomplishment Instructions of Boeing Alert Service Bulletin 777-57A0087, dated November 11, 2010; except where Boeing Alert Service Bulletin 777-57A0087, dated November 11, 2010, specifies to contact Boeing for repair instructions, before further flight, repair the cracking using a method approved in accordance with the procedures specified in paragraph (i) of this AD.

Alternative Methods of Compliance (AMOCs)

(i)(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane, and the approval must specifically refer to this AD.

Related Information

(j) For more information about this AD, contact Duong Tran, Aerospace Engineer, Airframe Branch, ANM-120S, FAA, Seattle Aircraft Certification Office, 1601 Lind Avenue, SW., Renton, Washington 98057-3356; phone: (425) 917-6452; fax: (425) 917-6590; e-mail: duong.tran@faa.gov.

(k) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, FAA, 1601 Lind Avenue, SW., Renton, Washington 98057-3356. For information on the availability of this material at the FAA, call 425-227-1221.

Issued in Renton, Washington, on June 17, 2011.
Kalene C. Yanamura,
Acting Manager, Transport Airplane Directorate, Aircraft Certification Service.

[FR Doc. 2011-16368 Filed 6-28-11; 8:45 am]

BILLING CODE 4910-13-P